DEPARTMENT OF DEFENSE

Office of the Secretary

Establishment of the National Commission on the Future of the Army

AGENCY: DoD.

ACTION: Establishment of federal advisory committee.

SUMMARY: The Department of Defense (DoD) is publishing this notice to announce that it is establishing the National Commission on the Future of the Army (“the Commission”).

FOR FURTHER INFORMATION CONTACT: Jim Freeman, Advisory Committee Management Officer for the Department of Defense, 703-692-5952.

SUPPLEMENTARY INFORMATION: This committee is being established pursuant to Section 1702 of the Carl Levin and Howard P. “Buck” McKeon National Defense Authorization Act for Fiscal Year 2015 (“the FY 2015 NDAA”) (Pub. L. 113-291) and in accordance with the Federal Advisory Committee Act (FACA) of 1972 (5 U.S.C., Appendix, as amended) and 41 CFR 102-3.50(a).

The Commission is a non-discretionary Federal advisory committee that shall undertake a comprehensive study of the structure of the Army, and policy assumptions related to the size and force mixture of the Army, in order (a) to make an assessment of the size and force structure of the active component of the Army and the reserve components of the Army; and (b) to make recommendations on the modifications, if any, of the structure of the Army related to current and anticipated mission requirements for the Army at acceptable levels of national risk and in a manner consistent with available resources and anticipated future resources. The Commission shall also conduct a study of a transfer of Army National Guard AH-64 Apache aircraft from the Army National Guard to the regular Army.

Pursuant to section 1703(c) of the FY 2015 NDAA, the Commission, not later than February 1, 2016, shall submit to the President and the Congressional defense committees a report setting forth a detailed statement of the findings and conclusions of the Commission as a result of the studies required by Sections 1703(a) and (b) of the FY 2015 NDAA, together with its recommendations for such legislative and administrative actions it considers appropriate in light of the results of the studies.

In undertaking both studies as described above, the Commission shall give particular consideration to:

A. An evaluation and identification of a structure for the Army that:

(1) Has the depth and scalability to meet current and anticipated requirements of the combatant commands;

(2) achieves cost-efficiency between the regular and reserve components of the Army, manages military risk, takes advantage of the strengths and capabilities of each, and considers fully burdened lifecycle costs;

(3) ensures that the regular and reserve components of the Army have the capacity needed to support current and anticipated homeland defense and disaster assistance missions in the United States;

(4) provides for sufficient numbers of regular members of the Army to provide a base of trained personnel from which the personnel of the reserve components of the Army could be recruited;

(5) maintains a peacetime rotation force to avoid exceeding operational tempo goals of 1:2 for active members of the Army and 1:5 for members of the reserve components of the Army; and

(6) manages strategic and operational risk by making tradeoffs among readiness, efficiency, effectiveness, capability, and affordability.

B. An evaluation and identification of force generation policies for the Army with respect to size and force mixture in order to fulfill current and anticipated mission requirements for the Army in a manner consistent with available resources and anticipated future resources including policies in connection with:

(1) Readiness;

(2) training;

(3) equipment;

(4) personnel; and

(5) maintenance of the reserve components as an operational reserve in order to maintain as much as possible the level of expertise and experience developed since September 11, 2001.

C. An identification and evaluation of the distribution of responsibility and authority for the allocation of Army National Guard personnel and force structure to the States and territories.

D. An identification and evaluation of the strategic basis or rationale, analytical methods, and decision-making processes for the allocation of Army National Guard personnel and force structure to the States and territories.

The Commission may hold such hearings, sit and act at such times and places, take such testimony and receive such evidence as the Commission considers advisable to carry out its mission.

The Commission may secure directly from any Federal department or agency such information as the Commission considers necessary to carry out its duties. Upon request of the Chair of the Commission, the head of such department or agency shall furnish such information to the Commission.

The Commission, pursuant to Section 1702(b)(1) of the FY 2015 NDAA, shall be composed of eight members. In making appointments, consideration should be given to individuals with expertise in national and international security policy and strategy, military forces capability, force structure design, organization, and employment, and reserve forces policy. The Commission's membership shall include:

a. Four individuals appointed by the President;

b. One individual appointed by the Chairman of the Committee on Armed Services of the Senate;

c. One individual appointed by the Ranking Member of the Committee on Armed Services of the Senate;

d. One individual appointed by the Chairman of the Committee on Armed Services of the House of Representatives; and

e. One individual appointed by the Ranking Member of the Committee on Armed Services of the House of Representatives.

Pursuant to Section 1702(b)(2) of FY 2015 NDAA, the appointments of the members of the Commission shall be made not later than 90 days after the enactment of the FY 2015 NDAA.

If one or more appointments under Section 12, subparagraph (a) above is not made by the appointment date specified in Section 1702(b)(2) of the FY 2015 NDAA, the authority to make such appointment or appointments shall expire, and the number of members of the Commission shall be reduced by the number equal to the number of appointments so not made. If an appointment under Section 12, subparagraphs (b)-(e) above is not made by the appointment date specified in Section 1702(b)(2) of the FY 2015 NDAA, the authority to make an appointment shall expire, and the number of members of the Commission shall be reduced by the number equal to the number otherwise appointable.

Members shall be appointed for the life of the Commission. Any vacancy in the Commission shall not affect its powers, but shall be filled in the same manner as the original appointment. The Commission members shall select a Chair and Vice Chair from the total membership. Commission members who are full-time or permanent part-time Federal officers or employees shall be appointed as regular government employee (RGE) members. Commission members who are not full-time or permanent part-time Federal officers or employees shall be appointed as experts or consultants pursuant to 5 U.S.C. 3109 to serve as special government employee (SGE) members.

Consistent with Section 1705(a) of the FY 2015 NDAA, each member of the Commission who is not an officer or employee of the Federal Government shall be compensated at a rate not to exceed to the daily equivalent of the annual rate of $155,400, for each day (including travel time) during which such member is engaged in the performance of the duties of the Commission. All members of the Commission who are officers or employees of the United States shall serve without compensation in addition to that received for their services as officers or employees of the United States.

The members of the Commission shall be allowed travel expenses, including per diem in lieu of subsistence, at rates authorized for employees of agencies under subchapter I of chapter 57 of title 5 United States Code, while away from their homes or regular places of business in the performance of services for the Commission.

The DoD, when necessary and consistent with the Commission's mission and DoD policies and procedures, may establish subcommittees, task forces, or working groups to support the Commission. Establishment of subcommittees will be based upon a written determination, to include terms of reference, by the Secretary of Defense, the Deputy Secretary of Defense, or the DCMO, as the DoD sponsor.

Such subcommittees shall not work independently of the Commission and shall report all of their recommendations and advice solely to the Commission for full and open deliberation and discussion. Subcommittees, task forces, or working groups have no authority to make decisions and recommendations, verbally or in writing, on behalf of the Commission. No subcommittee or its members can update or report, verbally or in writing, on behalf of the Commission, directly to the DoD or to any Federal officer or employee.

All subcommittee members shall be appointed by the Secretary of Defense or the Deputy Secretary of Defense according to governing DoD policies and procedures, even if the member in question is already a member of the Commission. Subcommittee members, with the approval of the Secretary of Defense, may serve a term of service for the life of the subcommittee.

Subcommittee members, if not full-time or part-time Federal officers or employees, shall be appointed as experts or consultants pursuant to 5 U.S.C. § 3109 to serve as SGE members. Subcommittee members who are full-time or permanent part-time Federal officers or employees will be appointed pursuant to 41 CFR § 102-3.130(a) to serve as RGE members.

Each subcommittee member is appointed to provide advice to the government on the basis of his or her best judgment without representing any particular point of view and in a manner that is free from conflict of interest. Subcommittee members may be compensated, and shall be allowed travel expenses, in the same manner as Commission members.

All subcommittees operate under the provisions of the FACA, the Sunshine Act, governing Federal statutes and regulations, and established DoD policies and procedures.

The Commission's Designated Federal Officer (DFO), pursuant to DoD policy, shall be a full-time or permanent part-time DoD employee appointed in accordance with governing DoD policies and procedures.

The Commission's DFO is required to be in attendance at all meetings of the Commission and any of its subcommittees for the entire duration of each and every meeting. However, in the absence of the Commission's DFO, a properly approved Alternate DFO, duly appointed to the Commission according to established DoD policies and procedures, shall attend the entire duration of the Commission or any subcommittee meeting.

The DFO, or the Alternate DFO, shall call all meetings of the Commission and its subcommittees; prepare and approve all meeting agendas; and adjourn any meeting when the DFO, or the Alternate DFO, determines adjournment to be in the public interest or required by governing regulations or DoD policies and procedures.

Pursuant to 41 CFR 102-3.105(j) and 102-3.140, the public or interested organizations may submit written statements to National Commission on the Future of the Army membership about the Commission's mission and functions. Written statements may be submitted at any time or in response to the stated agenda of planned meeting of the National Commission on the Future of the Army.

All written statements shall be submitted to the DFO for the National Commission on the Future of the Army, and this individual will ensure that the written statements are provided to the membership for their consideration. Contact information for the National Commission on the Future of the Army DFO can be obtained from the GSA's FACA Database— http://www.facadatabase.gov/.

The DFO, pursuant to 41 CFR 102-3.150, will announce planned meetings of the National Commission on the Future of the Army. The DFO, at that time, may provide additional guidance on the submission of written statements that are in response to the stated agenda for the planned meeting in question.

Dated: March 23, 2015.
Aaron Siegel,
Alternate OSD Federal Register Liaison Officer, Department of Defense.

[FR Doc. 2015-06919 Filed 3-25-15; 8:45 am]

BILLING CODE 5001-06-P